DEPARTMENT OF ENERGY

Federal Energy Regulatory Commission

Combined Notice of Filings

Take notice that the Commission has received the following Natural Gas Pipeline Rate and Refund Report filings:

Filings Instituting Proceedings

Docket Numbers: RP11-2473-000.

Applicants: Gulf South Pipeline Company, LP.

Description: Report Filing: 2018 CICO Filing.

Filed Date: 8/30/19.

Accession Number: 20190830-5054.

Comments Due: 5 p.m. ET 9/11/19.

Docket Numbers: RP11-2474-000.

Applicants: Gulf Crossing Pipeline Company LLC.

Description: Report Filing: 2018 CICO Filing.

Filed Date: 8/30/19.

Accession Number: 20190830-5055.

Comments Due: 5 p.m. ET 9/11/19.

Docket Numbers: RP19-1353-002.

Applicants: Northern Natural Gas Company

Description: Compliance filing 20190830 Rate Case Compliance to be effective 1/1/2020.

Filed Date: 8/30/19.

Accession Number: 20190830-5177.

Comments Due: 5 p.m. ET 9/11/19.

Docket Numbers: RP19-1390-001.

Applicants: Northern Border Pipeline Company.

Description: Compliance filing Future Sales of Capacity (RP19-1390-000) Compliance Filing to be effective 8/19/2019.

Filed Date: 8/30/19.

Accession Number: 20190830-5119.

Comments Due: 5 p.m. ET 9/11/19.

Docket Numbers: RP19-1493-000.

Applicants: Nautilus Pipeline Company, L.L.C.

Description: § 4(d) Rate Filing: Non-conforming—Unocal and Chevron Ratification Agmt to be effective 9/28/2019.

Filed Date: 8/29/19.

Accession Number: 20190829-5013.

Comments Due: 5 p.m. ET 9/10/19.

Docket Numbers: RP19-1494-000.

Applicants: Dauphin Island Gathering Partners.

Description: § 4(d) Rate Filing: Negotiated Rate Filing Chevron 8/29/2019 to be effective 9/1/2019.

Filed Date: 8/29/19.

Accession Number: 20190829-5039.

Comments Due: 5 p.m. ET 9/10/19.

Docket Numbers: RP19-1495-000.

Applicants: Rockies Express Pipeline LLC.

Description: § 4(d) Rate Filing: Neg Rate 2019-08-29 Elevation and Freepoint to be effective 9/1/2019.

Filed Date: 8/29/19.

Accession Number: 20190829-5040.

Comments Due: 5 p.m. ET 9/10/19.

Docket Numbers: RP19-1496-000.

Applicants: Texas Eastern Transmission, LP.

Description: § 4(d) Rate Filing: Negotiated Rate—Colonial to DTE 8959073 eff 9-1-19 to be effective 9/1/2019.

Filed Date: 8/29/19.

Accession Number: 20190829-5054.

Comments Due: 5 p.m. ET 9/10/19.

Docket Numbers: RP19-1497-000.

Applicants: Texas Eastern Transmission, LP.

Description: Compliance filing 2019 Operational Entitlements Filing

Filed Date: 8/29/19.

Accession Number: 20190829-5073.

Comments Due: 5 p.m. ET 9/10/19.

Docket Numbers: RP19-1498-000.

Applicants: TransColorado Gas Transmission Company LLC.

Description: § 4(d) Rate Filing: Fuel and Lost and Unaccounted For Update Filing to be effective 10/1/2019.

Filed Date: 8/29/19.

Accession Number: 20190829-5143.

Comments Due: 5 p.m. ET 9/10/19.

Docket Numbers: RP19-1499-000.

Applicants: El Paso Natural Gas Company, L.L.C.

Description: § 4(d) Rate Filing: Negotiated Rate Agreement Update (APS Sept 2019) to be effective 9/1/2019.

Filed Date: 8/29/19.

Accession Number: 20190829-5153.

Comments Due: 5 p.m. ET 9/10/19.

Docket Numbers: RP19-1500-000.

Applicants: El Paso Natural Gas Company, L.L.C.

Description: § 4(d) Rate Filing: Negotiated Rate Agreement Update (Pioneer Oct—Dec 2019) to be effective 10/1/2019.

Filed Date: 8/29/19.

Accession Number: 20190829-5154.

Comments Due: 5 p.m. ET 9/10/19.

Docket Numbers: RP19-1501-000.

Applicants: Columbia Gulf Transmission, LLC.

Description: Compliance filing CGT Cashout Report 2019.

Filed Date: 8/30/19.

Accession Number: 20190830-5006.

Comments Due: 5 p.m. ET 9/11/19.

Docket Numbers: RP19-1502-000.

Applicants: NEXUS Gas Transmission, LLC.

Description: § 4(d) Rate Filing: Negotiated Rates—Columbia Gas 860005 Sept 1 Releases to be effective 9/1/2019.

Filed Date: 8/30/19.

Accession Number: 20190830-5012.

Comments Due: 5 p.m. ET 9/11/19.

Docket Numbers: RP19-1503-000.

Applicants: MarkWest Pioneer, L.L.C.

Description: § 4(d) Rate Filing: Quarterly Fuel Adjustment Filing to be effective 10/1/2019.

Filed Date: 8/30/19.

Accession Number: 20190830-5045.

Comments Due: 5 p.m. ET 9/11/19.

Docket Numbers: RP19-1504-000.

Applicants: Black Hills Gas Distribution LLC, Black Hills Northwest Wyoming Gas Utilit, Cheyenne Light, Fuel and Power Company, Black Hills Power, Inc., Black Hills Service Company, LLC.

Description: Joint Petition for Temporary Waiver of Commission Policies, Capacity Release Regulations and Policies, et al. of Black Hills Gas Distribution LLC, et al. under RP19-1504.

Filed Date: 8/29/19.

Accession Number: 20190829-5210.

Comments Due: 5 p.m. ET 9/9/19.

Docket Numbers: RP19-1505-000.

Applicants: Gulf South Pipeline Company, LP.

Description: § 4(d) Rate Filing: Cap Rel Neg Rate Agmts (Atlanta Gas 8438 to various shippers eff 9-1-2019) to be effective 9/1/2019.

Filed Date: 8/30/19.

Accession Number: 20190830-5051.

Comments Due: 5 p.m. ET 9/11/19.

Docket Numbers: RP19-1506-000.

Applicants: Enable Gas Transmission, LLC.

Description: § 4(d) Rate Filing: Negotiated Rate Filing—September 1 2019 Continental 1011192 to be effective 9/1/2019.

Filed Date: 8/30/19.

Accession Number: 20190830-5052.

Comments Due: 5 p.m. ET 9/11/19.

Docket Numbers: RP19-1507-000.

Applicants: Gulf South Pipeline Company, LP.

Description: § 4(d) Rate Filing: Cap Rel Neg Rate Agmt (Osaka 46429 to Spotlight 51494) to be effective 9/1/2019.

Filed Date: 8/30/19.

Accession Number: 20190830-5053.

Comments Due: 5 p.m. ET 9/11/19.

Docket Numbers: RP19-1508-000.

Applicants: Dominion Energy Questar Pipeline, LLC.

Description: § 4(d) Rate Filing: Housekeeping Filing—Revised Title Page to be effective 10/1/2019.

Filed Date: 8/30/19.

Accession Number: 20190830-5064.

Comments Due: 5 p.m. ET 9/11/19.

Docket Numbers: RP19-1509-000.

Applicants: Dominion Energy Overthrust Pipeline, LLC.

Description: § 4(d) Rate Filing: Housekeeping Filing—Revised Title Page to be effective 10/1/2019.

Filed Date: 8/30/19.

Accession Number: 20190830-5065.

Comments Due: 5 p.m. ET 9/11/19.

Docket Numbers: RP19-1510-000.

Applicants: White River Hub, LLC.

Description: § 4(d) Rate Filing: Housekeeping Filing—Revised Title Page to be effective 10/1/2019.

Filed Date: 8/30/19.

Accession Number: 20190830-5070.

Comments Due: 5 p.m. ET 9/11/19.

Docket Numbers: RP19-1511-000.

Applicants: WBI Energy Transmission, Inc.

Description: § 4(d) Rate Filing: 2019 Semi-annual Fuel & Electric Power Reimbursement Adjustment to be effective 10/1/2019.

Filed Date: 8/30/19.

Accession Number: 20190830-5072.

Comments Due: 5 p.m. ET 9/11/19.

Docket Numbers: RP19-1512-000.

Applicants: Questar Southern Trails Pipeline Company.

Description: § 4(d) Rate Filing: Housekeeping Filing—Revised Title Page to be effective 10/1/2019.

Filed Date: 8/30/19.

Accession Number: 20190830-5073.

Comments Due: 5 p.m. ET 9/11/19.

Docket Numbers: RP19-1513-000.

Applicants: Kern River Gas Transmission Company.

Description: § 4(d) Rate Filing: 2019 Concord September Amendment to be effective 9/1/2019.

Filed Date: 8/30/19.

Accession Number: 20190830-5074.

Comments Due: 5 p.m. ET 9/11/19.

Docket Numbers: RP19-1514-000.

Applicants: UGI Mt. Bethel Pipeline, LLC.

Description: § 4(d) Rate Filing: Modification to Annual Charge Adjustment (ACA) Provision to be effective 10/1/2019.

Filed Date: 8/30/19.

Accession Number: 20190830-5078.

Comments Due: 5 p.m. ET 9/11/19.

Docket Numbers: RP19-1515-000.

Applicants: Dominion Energy Cove Point LNG, LP.

Description: Compliance filing DECP—2019 Revenue Crediting Report.

Filed Date: 8/30/19.

Accession Number: 20190830-5080.

Comments Due: 5 p.m. ET 9/11/19.

Docket Numbers: RP19-1516-000.

Applicants: Colorado Interstate Gas Company, L.L.C.

Description: § 4(d) Rate Filing: Annual LUF and Fuel True Up Filing to be effective 10/1/2019.

Filed Date: 8/30/19.

Accession Number: 20190830-5081.

Comments Due: 5 p.m. ET 9/11/19.

Docket Numbers: RP19-1517-000.

Applicants: Transcontinental Gas Pipe Line Company, LLC.

Description: § 4(d) Rate Filing: Negotiated Rates—Cherokee AGL—Replacement Shippers—Sep 2019 to be effective 9/1/2019.

Filed Date: 8/30/19.

Accession Number: 20190830-5082.

Comments Due: 5 p.m. ET 9/11/19.

Docket Numbers: RP19-1518-000.

Applicants: Colorado Interstate Gas Company, L.L.C.

Description: § 4(d) Rate Filing: Non Conforming Negotiated Rate TSAs (XOG) to be effective 10/1/2019.

Filed Date: 8/30/19.

Accession Number: 20190830-5100.

Comments Due: 5 p.m. ET 9/11/19.

Docket Numbers: RP19-1519-000.

Applicants: Gulf South Pipeline Company, LP.

Description: § 4(d) Rate Filing: Cap Rel Neg Rate Agmts (Aethon 37657, 50488 to Scona 51410, 51411) to be effective 9/1/2019.

Filed Date: 8/30/19.

Accession Number: 20190830-5113.

Comments Due: 5 p.m. ET 9/11/19.

Docket Numbers: RP19-1520-000.

Applicants: Colorado Interstate Gas Company, L.L.C.

Description: Operational Purchase and Sales Report of Colorado Interstate Gas Company, L.L.C. under RP19-1520.

Filed Date: 8/30/19.

Accession Number: 20190830-5123.

Comments Due: 5 p.m. ET 9/11/19.

Docket Numbers: RP19-1521-000.

Applicants: NEXUS Gas Transmission, LLC.

Description: § 4(d) Rate Filing: Negotiated Rate—Amended CNX Gas 860004 eff 9-1-2019 to be effective 9/1/2019.

Filed Date: 8/30/19.

Accession Number: 20190830-5140.

Comments Due: 5 p.m. ET 9/11/19.

Docket Numbers: RP19-1522-000.

Applicants: El Paso Natural Gas Company, L.L.C.

Description: § 4(d) Rate Filing: Negotiated Rate Agreement Update (Conoco Sep 2019) to be effective 9/1/2019.

Filed Date: 8/30/19.

Accession Number: 20190830-5148.

Comments Due: 5 p.m. ET 9/11/19.

Docket Numbers: RP19-1523-000.

Applicants: Panhandle Eastern Pipe Line Company, LP.

Description: § 4(d) Rate Filing: Rate Case to be effective 10/1/2019.

Filed Date: 8/30/19.

Accession Number: 20190830-5151.

Comments Due: 5 p.m. ET 9/11/19.

Docket Numbers: RP19-1524-000.

Applicants: Southern Star Central Gas Pipeline, Inc.

Description: § 4(d) Rate Filing: Vol 2-Neg Non-Conforming Flex PLS-Sequent & Non Conform FTS-M-Empire to be effective 9/1/2019.

Filed Date: 8/30/19.

Accession Number: 20190830-5158.

Comments Due: 5 p.m. ET 9/11/19.

Docket Numbers: RP19-1525-000.

Applicants: Dominion Energy Carolina Gas Transmission.

Description: Compliance filing DECG—2019 Penalty Crediting Sharing Report.

Filed Date: 8/30/19.

Accession Number: 20190830-5160.

Comments Due: 5 p.m. ET 9/11/19.

Docket Numbers: RP19-1526-000.

Applicants: Transcontinental Gas Pipe Line Company, LLC.

Description: § 4(d) Rate Filing: Non-Conforming—FTP—Who Dat MC 547 to be effective 10/1/2019.

Filed Date: 8/30/19.

Accession Number: 20190830-5176.

Comments Due: 5 p.m. ET 9/11/19.

Docket Numbers: RP19-1527-000.

Applicants: Northwest Pipeline LLC.

Description: § 4(d) Rate Filing: 2019 Winter Fuel Filing to be effective 10/1/2019.

Filed Date: 8/30/19.

Accession Number: 20190830-5180.

Comments Due: 5 p.m. ET 9/11/19.

Docket Numbers: RP19-1529-000.

Applicants: Trailblazer Pipeline Company LLC.

Description: § 4(d) Rate Filing: Neg Rate 2019-08-30 5 sharing Ks to be effective 9/1/2019.

Filed Date: 8/30/19.

Accession Number: 20190830-5185.

Comments Due: 5 p.m. ET 9/11/19.

Docket Numbers: RP19-1530-000.

Applicants: Spire STL Pipeline LLC.

Description: § 4(d) Rate Filing: Spire STL Pipeline LLC Baseline Tariff Filing to be effective 11/15/2019.

Filed Date: 8/30/19.

Accession Number: 20190830-5224.

Comments Due: 5 p.m. ET 9/11/19.

Docket Numbers: RP19-1531-000.

Applicants: Millennium Pipeline Company, LLC.

Description: § 4(d) Rate Filing: Non-Conforming & Negotiated Rate Svc Amd—ConEd to be effective 9/1/2019.

Filed Date: 8/30/19.

Accession Number: 20190830-5228.

Comments Due: 5 p.m. ET 9/11/19.

Docket Numbers: RP19-1532-000.

Applicants: MoGas Pipeline LLC.

Description: § 4(d) Rate Filing: MoGas Pipeline Annual Fuel Tracker Filing to be effective 10/1/2019.

Filed Date: 8/30/19.

Accession Number: 20190830-5241.

Comments Due: 5 p.m. ET 9/11/19.

Docket Numbers: RP19-1533-000.

Applicants: NEXUS Gas Transmission, LLC.

Description: § 4(d) Rate Filing: Negotiated Rates—CNX 860004 Releases eff 9-1-2019 to be effective 9/1/2019.

Filed Date: 8/30/19.

Accession Number: 20190830-5255.

Comments Due: 5 p.m. ET 9/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2019.
Nathaniel J. Davis, Sr.,
Deputy Secretary.

[FR Doc. 2019-19426 Filed 9-6-19; 8:45 am]

BILLING CODE 6717-01-P